DEPARTMENT OF ENERGY

Western Area Power Administration

Los Banos-Gates Transmission Project

AGENCY: Western Area Power Administration, DOE.

ACTION: Record of decision.

SUMMARY: The Department of Energy (DOE), Western Area Power Administration (Western), has decided to construct the Los Banos-Gates Transmission Project (Project) through a public/private partnership. Electric power transmission constraints along this path have contributed to blackouts in California. The Project will relieve these constraints.

This Record of Decision (ROD) is based on the information, analysis, and public comment received on the Final Environmental Impact Statement (EIS) for the California-Oregon Transmission Project (DOE/EIS-0128, 1988) (Final EIS), its associated Draft EIS, and the Supplement Analysis (SA) for the Project (DOE/EIS-0128-SA-01, August 24, 2001). Based on the findings on the SA, Western has determined that further National Environmental Policy Act (NEPA) documentation is not required.

The Project, also known as Path 15, consists of approximately 84 miles of new 500-kilovolt (kV) transmission line in California's western San Joaquin Valley, starting at the existing Los Banos Substation near Los Banos in Merced County and extending generally south southeastward to the existing Gates Substation near Coalinga in Fresno County. The Project will also require modifications to some existing high-voltage transmission equipment.

Copies of the pertinent volumes of the Draft EIS (DOE/EIS-0128, 1986) and the SA can be reviewed on Western's Web site http://www.wapa.gov/SN/path15links or obtained by calling toll free (866) 290-9686. A Mitigation Action Plan (MAP) will be developed and when completed, will be available on the Web site or by calling the same toll free number.

FOR FURTHER INFORMATION CONTACT: Mr. Thomas R. Boyko, The Project Manager, Sierra Nevada Customer Service Region, Western Area Power Administration, 114 Parkshore Drive, Folsom, CA 95630, telephone (866) 290-9686, E-mail Path15@wapa.gov. For information about the Department of Energy NEPA process, contact Ms. Carol M. Borgstrom, Director, NEPA Policy and Compliance, EH-42, U.S. Department of Energy, 1000 Independence Avenue SW., Washington, DC 20585, telephone (202) 586-4600 or (800) 472-2756.

SUPPLEMENTARY INFORMATION: Title III of the Energy and Water Development Appropriations Act for Fiscal Year 1985 (Pub. L 98-380) authorized the Secretary of Energy (Secretary), through Western, to construct or participate in the construction of additional facilities as the Secretary deems necessary to allow mutually beneficial power sales between the Pacific Northwest and California. In 1985, a group of California public and private utilities and Western developed a Memorandum of Understanding (MOU) that provided a framework for the proposed development of the California-Oregon Transmission Project (COTP) and the Los Banos-Gates Transmission Project. The Final EIS for the California-Oregon Transmission Project and the Los Banos-Gates Transmission Project (DOE/EIS-0128, 1988) (Final EIS) was issued in 1988. A ROD for construction of the COTP was issued in 1988 (53 FR 17749, May 18, 1988), and the COTP was built and placed into service in 1993. The Project was not built at that time because, as stated in the COTP ROD, Pacific Gas and Electric Company (PG&E) could meet its obligations in the MOU without construction of the Project. Now, due to the need for additional operational flexibility and capacity between Northern and Southern California, and with increasing energy demands in Northern California, the Project has been reconsidered.

In May 2001, Secretary of Energy Spencer Abraham directed Western to take the first steps, including the preparation of environmental studies, toward developing the Project. This directive was issued based on a recommendation in the National Energy Policy, issued on May 17, 2001 (http://www.whitehouse.gov/energy). Western issued a Request for Statements of Interest in the Federal Register on June 13, 2001, to solicit interest from parties to help finance, construct, and co-own the system additions. Thirteen statements of interest were received by the deadline established in the Federal Register notice and evaluated. The Secretary announced on October 18, 2001, that Western would enter into a MOU with qualified private and public parties to finance, construct, and co-own the system additions. These companies are Kinder Morgan Power Company, PG&E, PG&E National Energy Group, Inc., Transmission Agency of Northern California, Trans-Elect, Western's Sierra Nevada Region Marketing function, and the Williams Energy Marketing and Trading Company.

Western and PG&E have been exploring the construction of the Project under separate processes. At the request of the California Public Utilities Commission (CPUC), PG&E submitted a conditional Certificate of Public Convenience and Necessity (CPCN) application to construct the Project on April 13, 2001. The CPCN process examines the environmental impacts of the the Project under the California Environmental Quality Act and will determine if it is economically feasible for PG&E ratepayers to pay for the construction, operation, and maintenance of the Project. The Draft Supplemental Environmental Impact Report (SEIR) was released on October 5, 2001. A final decision is expected by the CPUC in March 2002.

Since the Final EIS was prepared back in 1988, Western chose to prepare an SA for the Project (DOE/EIS-0128-SA-01, August 24, 2001) to determine whether a supplemental EIS was required. The purpose of the SA was to determine if there are any substantial changes in the proposed action that are relevant to environmental concerns or if there are significant new circumstances or information relevant to environmental concerns and bearing on the proposed action or its impacts (10 CFR 1021.314(c) and 40 CFR 1502.9 (c)(1)(i) and (ii)). The SA was based on a review of the Draft and Final EIS environmental analysis and supporting documents, and an update of the information using current data available for the Project, the Project area, and its resources.

The SA did not identify any significant new circumstances or information relevant to environmental concerns identified in the Final EIS. Based on the findings of the SA, Western has determined that further NEPA documentation is not required before making a decision on the Project. Full implementation of this ROD is contingent upon: (1) Completion of Endangered Species Act Section 7 consultation with the U.S. Fish and Wildlife Service, (2) completion of National Historic Preservation Act Section 106 consultation with the California Historic Preservation Office, and (3) consultation with Native American tribes.

Completion of these processes may result in additional conditions or restrictions on the Project, and/or additional binding mitigation measures. Once the Section 106 and Section 7 processes and Native American consultations are completed, Western will issue an amended ROD if it changes its selected alternative or makes additional mitigation commitments as a result of the above processes. This ROD has been prepared under the Council on Environmental Quality regulations for Implementing NEPA (40 CFR parts 1500-1508) and DOE Procedures for Implementing NEPA (10 CFR part 1021).

Western has adopted the mitigation measures for the Project identified in the Final EIS and the SA, and will prepare a MAP that will ensure that the measures are integrated into the Project. The MAP will also include additional mitigation required after the completion of consultations with Federal, State, and local agencies and will be made available to the public when issued. It may also include specific mitigation measures as agreed upon with landowners. In addition, Western will coordinate with the appropriate Federal, State, and local land management and resource agencies on any unforeseen site-specific mitigation requirements identified during the Project construction phase.

Selected and Environmentally Preferred Alternative

The EIS analyzed two alternative corridors for the Project, the East and the West. The West corridor was identified as being environmentally preferred. The Supplement Analysis reconfirmed that the West corridor is still environmentally preferred. Western selected the West corridor as its preferred alternative, and a detailed description of the Project follows.

Los Banos-Gates 500-kV Transmission Line (new)

Construct approximately 84 miles of single-circuit, overhead 500-kV transmission line from Los Banos Substation, near Los Banos and three miles south of Santa Nella Village in Merced County generally south southeastward to Gates Substation, 12 miles east of Coalinga in Fresno County. The West corridor lies between Interstate 5 and the foothills of the Coastal Mountains in the western San Joaquin Valley. The corridor can be generally described as non-cultivated and non-irrigated hilly land used primarily for livestock grazing. Only a small amount of agricultural land (approximately 15 percent) is crossed by the corridor. Vegetation within the corridor is nearly all grassland or shrub. Other than the Los Banos Reservoir and intermittent streams, no surface water is crossed. The corridor, which comes near oil fields, will cross California Highway 198 about 10 miles northeast of Coalinga and Interstate 5 about 8 miles east of Coalinga. The corridor roughly parallels two existing PG&E 500-kV transmission lines that are a portion of the Pacific Northwest-Pacific Southwest Intertie. The transmission line will be installed on self-supporting square or rectangular lattice steel structures that will vary in height from approximately 100 to 160 feet. An average of only five structures per mile will be necessary, supporting bundled or triple conductors.

Contracts for the new right-of-way (ROW) within the corridor will be negotiated with individual landowners. A new 200-foot ROW or easement will be needed for construction, operation, and maintenance of the new 84-mile transmission line. New 15-30 foot-wide access road easements will also be needed for construction and permanent access to the transmission line structures for maintenance purposes. Additional temporary construction easements will be needed for construction sites such as staging areas and conductor pulling sites.

Connected Actions

The Final EIS discussed additional system modifications that will be needed to incorporate the Project into the integrated power system. As these system components belong to others, Western will not be making decisions about conducting this work, but these actions will have to be closely coordinated with the construction of the Los Banos-Gates Transmission Line. This additional work is not related to the selection of a corridor for the Los Banos-Gates Transmission Line. These connected actions include the following:

Los Banos Substation

Modify the existing PG&E Los Banos 500-kV Substation by adding a new bay, two new circuit breakers, shunt capacitors, miscellaneous electrical equipment, and possibly a new capacitor bank. Construction will be within the existing boundaries of the substation.

Gates Substation

Modify the existing PG&E Gates 500-kV Substation by adding a new bay, two new circuit breakers, new series capacitor bank, shunt capacitors, and miscellaneous electrical equipment. Construction will be within the existing boundaries of the substation.

Midway Substation

Modify the existing PG&E Midway 500-kV Substation, located in Kern County, by adding new shunt capacitors, and miscellaneous electrical equipment. Construction will be within the existing boundaries of the substation.

Los Banos-Midway No. 2 500-kV Transmission Line

Realign the existing PG&E Los Banos-Midway 500-kV No. 2 Transmission Line to loop into the Gates Substation. This realignment of 7,000 feet of existing line will result in the removal of seven towers and the construction of six towers adjacent to the existing Los Banos-Midway 500-kV No. 1 Transmission Line. The realignment will be done within PG&E's existing right-of-way.

Gates-Arco-Midway 230-kV Transmission Line

Reconductor/reconfigure 24.4 miles of the existing PG&E 70-mile transmission lines between Gates Substation and Midway Substation, which presently consists of one 230-kV and one 115-kV transmission line. The 115-kV transmission line could be reconfigured to a 230-kV line to establish two 230-kV circuits between these substations. The reconductoring will be done by bucket truck within PG&E's existing right-of-way on existing access roads.

Mitigation

The mitigation measures adopted are listed in the Draft EIS issued in 1986 and the SA. They are too extensive to be listed here in their entirety, but can be reviewed on the web site provided above, or obtained from the contact given above. In general, many mitigation measures take the form of avoidance through careful siting of the Project centerline and individual structures and access roads. Some mitigation measures identify specific potential impacts and provide strategies for minimizing or eliminating the potential for impact. Others commit to coordination with resource agencies or landowners to site structures and access roads away from sensitive resources. Construction activities will be excluded from some sensitive resource locations to prevent any disturbance.

Another set of specific mitigation measures address construction practices designed to minimize potential impacts. These measures detail culvert installation, wetting of disturbed areas for dust abatement, re-seeding, soil compaction, debris removal, and similar topics. A final set of measures addresses potential long-term impacts like closing access roads and correcting any radio or television interference problems.

These mitigation measures will be incorporated into the Project through a MAP that Western will develop prior to construction. Western will prepare the MAP during the project design phase so as to include engineering designs and construction plans. It will be developed through additional consultation with Federal, State, Tribal, and local agencies. Western will utilize best construction practices and applicable industry standards.

Implementation of the MAP will be assured through several measures. First, Western will ensure that the applicable mitigation measures are included in all construction contracts. The construction inspectors will verify that mitigation measures are implemented and inspectors will have the authority to enforce the measures by redirecting activities of the construction contractor to the extent necessary to meet the mitigation requirements included in the construction specifications. Second, Western will monitor the implementation of the mitigation measures. Third, cooperating and responsible Federal, State, Tribal, and local agencies may also monitor the implementation of the mitigation measures under their jurisdiction. Details of the coordination and reporting mechanisms for this monitoring will be included in the MAP. When completed, the MAP will be available on Western's web site or by calling the toll free number provided above.

Alternatives Considered But Not Selected

1. No Action

Selection of the no-action alternative would mean that the Project would not be constructed. The no-action alternative would have fewer environmental impacts than the selected alternative in the short term. By not constructing the Project, the short-term impacts would be continued congestion on Path 15, which could lead to additional blackouts in Northern California. The State of California has licensed several peaking generation plants that would operate to help meet the electrical demands in Northern California. Longer-term impacts of not constructing the Project include primarily air quality impacts from operating these peaking plants once built, and direct impacts to other resources such as vegetation, wildlife, visual, or archaeological due to the construction of these plants. Selecting the no-action alternative would mean that 1,500 MW of generation resources and associated transmission facilities would need to be constructed in Northern California to meet electrical load, resulting in negative environmental impacts.

The no-action alternative was not selected because it does not meet the recommendations in the National Energy Policy and the directive from the Secretary to relieve the transmission bottleneck on Path 15 and may impact California's ability to meet growing electrical demands in Northern California.

2. Transmission Alternatives

Selection of the West corridor for the Project was part of a systematic siting process that began in 1985. The process reduced a large geographic study area to alternative transmission corridors (2 to 5 miles wide) to alternative routes within these corridors (approximately 1,500 feet wide) to a preferred route made up of selected route segments. Because the SA focused on verifying and updating existing information at the project level, this ROD discusses corridors, but it is important to note that the original work to develop the overall impact levels for the two corridors involved collecting data at a much finer detail. The process included public workshops, agency coordination, and field studies over a 12-month period. The primary objective in refining the alternatives was to avoid, to the extent possible, environmental and land use impacts and constraints during the planning phases of the Project.

The Final EIS considered East and West corridors for the Project. The West corridor runs to the west of Interstate 5 and is primarily in grazing lands, with about 15 percent of the corridor crossing irrigated cropland or orchards. While approximately 3 percent of the West corridor has been converted to agriculture and crops since 1988, the predominant land uses remain the same as when the Final EIS was issued.

The East corridor runs to the east of Interstate 5 and parallel to PG&E's existing 230-kV transmission line for 68 miles. The Final EIS identifies greater than 84 percent of the East corridor as crossing irrigated cropland, which is of high economic value to the region. This intensively managed cropland is less valuable as wildlife habitat since it supports far less natural vegetation than is found further west.

The West corridor was selected over the East corridor because crossing undeveloped grazing lands would have less impact than crossing agricultural lands. The potential impact on the farming community is reduced by minimizing the disruption to existing agricultural practices, including loss of productive land, aerial seeding and spraying, field irrigation, and soil cultivation and preparation. Additionally, there are reduced visual impacts to residents and travelers on Interstate 5 as compared with the more populated East corridor. The CPUC examined the same corridors, and identified the West corridor as the environmentally superior alternative in their SEIR.

None of the alternatives are expected to result in substantial impacts to earth resources, water resources and fisheries, socioeconomics, or corona, electric field, and safety considerations.

Western examined environmental justice concerns and found that impacts are not disproportional to any minority or low-income populations.

Economic impacts would be greatest where the most agriculture is affected. Locating the Project in the East corridor would lead to loss of productive farmland, restricted agricultural development in the ROW, and interference with agricultural practices. In the West corridor, development may also be somewhat restricted in the areas between the transmission line and the existing Intertie lines. There is significantly less agricultural land located in the West corridor.

Surveys have found threatened and endangered vegetation and wildlife in the study area. Because there is less development in the West corridor, more of these species are expected in the West corridor than in the East corridor. The West corridor has, in general, a more diverse collection of vegetation. However, the Final EIS and the SA have found that most impacts can be avoided with careful placement of structures and access roads, and further reduced by mitigation measures. Up to 153 acres of vegetation are subject to disruption in building the Project in either corridor. Wildlife may be temporarily displaced during active construction, but will return to the corridor area once construction activities cease. An average of only five structures per mile helps to minimize long-term impacts.

Cultural resources have been identified in both corridors; however, field inventories have not been conducted to identify specific cultural resources that could potentially be impacted by construction of the Project. These intensive surveys are undertaken once the initial centerline location is determined, and can lead to adjustments in the centerline to avoid potential impacts. More cultural sites have been identified in the West corridor because of its more varied topography and undeveloped nature. Western's Programmatic Agreement is under review with the California Office of Historic Preservation and other affected parties. The Agreement will address inventory strategies, consultation, eligibility and effect, and treatment plans, and will be referenced in the MAP.

Transmission structures located in either the East and West corridors would be visible from Interstate 5; however, they would be more visible in the East corridor. Structures in the West corridor would be more visible from recreation areas in the foothills and at reservoirs.

Transmission line construction in either corridor could affect roadways during construction by causing congested traffic or by damaging road surfaces.

Construction of the Project in either corridor would require similar commitments of conductor wire, structure steel, concrete, and energy resources. Locating the transmission line at least 2,000 feet away from PG&E's two 500-kV Intertie lines is preferred since it increases power system reliability by reducing the possibility of a single event loss of all three lines (fire, aircraft crash, earthquake, etc.). This separation of these important large transmission lines is consistent with standard utility industry practice and Western Systems Coordinating Council and North American Electric Reliability Council criteria and guidelines.

Public Comment Summary

Western issued newsletters in June and August 2001 and conducted two public workshops on the Project on August 27 and 28, 2001. The landowners attending the public workshops voiced concerns over land values, future land use restrictions, and agricultural impacts to operations and productivity. Written comments were received from several landowners and the CPUC during the public review period.

In their written comments, landowners expressed concerns about locating the transmission line on their property and their desire to reduce impacts to their land and farming operations. Other concerns included potential impacts on the economic development of a proposed housing development near the Los Banos Substation, San Joaquin kit fox habitat and mitigation areas being evaluated within the Western corridor, established habitat areas, and electromagnetic fields. Western will work with landowners to address their concerns during the transmission line siting and land acquisition processes.

Comments from the CPUC centered on including additional information from its environmental analysis. The CPUC's major comments included impacts to air quality, endangered species, water quality, increases in agricultural and other land uses, visual resources, seismic activity, socioeconomics, cultural resources, and mitigation measures. Western will also work with the CPUC, PG&E, and other Federal, State, and local agencies to assure that potential impacts are minimized.

Comments received and Western's specific responses are available on Western's web site or by calling the toll free number.

Dated: December 7, 2001.
Michael S. Hacskaylo,
Administrator.

[FR Doc. 01-31346 Filed 12-19-01; 8:45 am]

BILLING CODE 6450-01-P